DEPARTMENT OF HEALTH AND HUMAN SERVICES

National Institutes of Health

Statement of Delegation of Authority

Notice is hereby given that I have delegated to the Director, National Institutes of Health (NIH), or his or her successor, the authorities vested in the Secretary of Health and Human Services under Section 377E (a) of the HIV Organ Policy Equity Act, (Pub. L. 113-51), which amends the Public Health Service Act to require development and publication of criteria for the conduct of research relating to transplantation of organs from donors infected with human immunodeficiency virus (HIV) into individuals who are infected with HIV before receiving such organ.

These authorities may be redelegated. Exercise of this authority shall be in accordance with established policies, procedures, guidelines, and regulations as prescribed by the Secretary. The Secretary retains the authority to submit reports to Congress and promulgate regulations.

I hereby affirm and ratify any actions taken by the Director, NIH, or his or her subordinates, which involved the exercise of the authorities delegated herein prior to the effective date of the delegation.

Dated: November 25, 2014.
Sylvia M. Burwell,
Secretary.

[FR Doc. 2014-28406 Filed 12-1-14; 8:45 am]

BILLING CODE 4140-01-P